DEPARTMENT OF COMMERCE

International Trade Administration

[A-580-812]

Dynamic Random Access Memory Semiconductors of One Megabit or Above From the Republic of Korea: Notice of Court Decision and Suspension of Liquidation

AGENCY: Import Administration, International Trade Administration, Department of Commerce.

ACTION: Notice of Court Decision and Suspension of Liquidation.

SUMMARY: On April 1, 2004, the United States Court of International Trade (CIT) affirmed the Department of Commerce's results of redetermination on remand of the final results of the seventh administrative review of the antidumping duty order on Dynamic Random Access Memory Semiconductors of One Megabit or Above (DRAMs) from the Republic of Korea (Korea). See Hynix Semiconductor, Inc., v. United States, Slip Op. 04-30 (April 1, 2004), Court No. 01-00988 (Hynix III). Consistent with the decision of the United States Court of Appeals for the Federal Circuit (Federal Circuit) in Timken Co. v. United States, 893 F.2d 337 (Fed. Cir. 1990) (Timken), the Department of Commerce (the Department) is notifying the public that Hynix and the CIT's earlier opinion in this case were “not in harmony” with the Department's original results.

EFFECTIVE DATE: April 19, 2004.

FOR FURTHER INFORMATION CONTACT: Ron Trentham or Tom Futtner, Office 4, Group II, AD/CVD Enforcement, Import Administration, International Trade Administration, U.S. Department of Commerce, 14th Street and Constitution Avenue, NW, Washington, DC 20230; telephone: (202) 482-6320 and (202) 482-3814, respectively.

SUPPLEMENTARY INFORMATION:

Background

On October 12, 2001, the Department published a notice of the final results of the seventh review of DRAMs from Korea. See Dynamic Random Access Memory Semiconductors of One Megabit or Above From the Republic of Korea: Final Results of Antidumping Duty Administrative Review, 66 FR 52097 (October 12, 2001) (Final Results). Subsequent to the Department's Final Results, Hynix Semiconductor, Inc., filed a suit in the CIT challenging these results. Thereafter, the CIT issued an Order and Opinion dated November 24, 2003 in remanding two issues to the Department. See, Hynix Semiconductor, Inc. v. United States, 295 F. Supp 2d 1365 (CIT 2003) (Hynix II). Pursuant to the CIT's November 24, 2003 Order and Opinion, the Department filed its remand results on December 17, 2003. On April 1, 2004, the CIT affirmed the Department's results of redetermination in Hynix III.

Suspension of Liquidation

In its decision in Timken, the Federal Circuit held that, pursuant to 19 U.S.C. 1516a(e), the Department must publish notice of a decision of the CIT which is “not in harmony” with the Department's Final Results. The Federal Circuit also held that the Department must suspend liquidation of the subject merchandise until there is a “conclusive” decision in the case. The CIT's decision in Hynix III and its November 24, 2003 Order and Opinion in this case were not in harmony with the Department's final antidumping duty results of review. Therefore, publication of this notice fulfills the obligation imposed upon the Department by the decision in Timken. In addition, this notice will serve to continue the suspension of liquidation. If this decision is not appealed, or if appealed, if it is upheld, the Department will publish amended final antidumping duty results.

Dated: April 9, 2004.
James J. Jochum,
Assistant Secretaryfor Import Administration.

[FR Doc. 04-8801 Filed 4-16-04; 8:45 am]

BILLING CODE 3510-DS-S